SMALL BUSINESS ADMINISTRATION

National Small Business Development Center Advisory Board

AGENCY: U.S. Small Business Administration (SBA).

ACTION: Notice of open Federal Advisory Committee meetings.

SUMMARY: The SBA is issuing this notice to announce the location, date, time and agenda for the 3rd quarter meetings of the National Small Business Development Center (SBDC) Advisory Board.

DATES: The meetings for the 3rd quarter will be held on the following dates:

Tuesday, April 16, 2013 at 1:00pm EST—Face to Face meeting. Address will be SBA Headquarters, 409 Third Street SW., OED Conference Room, 6th Floor, Washington, DC 20416;

Tuesday, May 21, 2013 at 1:00pm EST—Via Conference Call;

Tuesday, June 18, 2013 at 1:00pm EST—Via Conference Call.

SUPPLEMENTARY INFORMATION: Pursuant to section 10(a) of the Federal Advisory Committee Act (5 U.S.C. Appendix 2), SBA announces the meetings of the National SBDC Advisory Board. This Board provides advice and counsel to the SBA Administrator and Associate Administrator for Small Business Development Centers.

The purpose of these meetings is to discuss following issues pertaining to the SBDC Advisory Board:

—SBA Update

—Annual Conferences

—Board Assignments

—Member Roundtable

FOR FURTHER INFORMATION CONTACT: The meeting is open to the public however advance notice of attendance is requested. Anyone wishing to be a listening participant must contact Alanna Falcone by fax or email. Her contact information is Alanna Falcone, Program Analyst, 409 Third Street SW., Washington, DC 20416, Phone, 202-619-1612, Fax 202-481-0134, email, alanna.falcone@sba.gov.

Additionally, if you need accommodations because of a disability or require additional information, please contact Alanna Falcone at the information above.

Dan S. Jones,
Committee Management Officer.

This notice is late due to a last minute opportunity to pull everyone together for a face to face meeting on April 16th. Some of the members originally had scheduling conflicts.

[FR Doc. 2013-09187 Filed 4-18-13; 8:45 am]

BILLING CODE P